ENVIRONMENTAL PROTECTION AGENCY

[EPA-HQ-OAR-2011-0940; FRL 9512-9]

Agency Information Collection Activities; Submission to OMB for Review and Approval; Comment Request; Federal Supplier (Small Business) Greenhouse Gas Inventory Pilot (Renewal)

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before April 23, 2012.

ADDRESSES: Submit your comments, referencing Docket ID No. EPA-HQ-OAR-2011-0940, to (1) EPA online using www.regulations.gov (our preferred method), by email to a-and-r-docket@epa.gov, or by mail to: EPA Docket Center, Environmental Protection Agency, Air and Radiation Docket, Mailcode: 28221T, 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: John Sottong, Climate Protection Partnerships Division, Office of Atmospheric Programs, (6202J), Environmental Protection Agency, 1200 Pennsylvania Ave. NW., Washington, DC 20460; telephone number: (202) 343-9397; fax number: (202) 343-2208; email address: sottong.john@epa.gov.

SUPPLEMENTARY INFORMATION: EPA has submitted the following ICR to OMB for review and approval according to the procedures prescribed in 5 CFR 1320.12. On November 30, 2011 (76 FR 74053), EPA sought comments on this ICR pursuant to 5 CFR 1320.8(d). EPA received no comments. Any additional comments on this ICR should be submitted to EPA and OMB within 30 days of this notice.

EPA has established a public docket for this ICR under Docket ID No. EPA-HQ-OAR-2011-0940, which is available for online viewing at www.regulations.gov, or in person viewing at the Air and Radiation Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is 202-566-1744, and the telephone number for the Air and Radiation Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Federal Supplier (Small Business) Greenhouse Gas Inventory Pilot (Renewal)

ICR numbers: EPA ICR No. 2100.05, OMB Control No. 2060-0532.

ICR Status: This ICR is scheduled to expire on April 30, 2012. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: On September 30, 2011, the U.S. Environmental Protection Agency (EPA) officially ended its Climate Leaders program. One element of the Climate Leaders program was the Small Business Network (SBN), which offered small businesses tools and resources to assist them with managing and reducing their Greenhouse Gas (GHG) emissions. In direct response to E.O. 13514, EPA and the U.S. General Services Administration (GSA) utilized the Climate Leaders SBN as the foundation to launch the Federal Supplier Greenhouse Gas Emissions Inventory Pilot (“the Pilot”) in August 2010 to assess the benefits and challenges experienced by small businesses in completing and reporting a GHG emissions inventory. The Pilot is a voluntary, three-year program in which small businesses are required to develop annual GHG emissions inventories through September 2013. The small businesses are also required to develop and implement GHG emissions reductions strategies and review their progress towards meeting their reduction goals and the associated benefits. Through this interagency agreement, EPA continues to support the Pilot with education and technical assistance. EPA has developed this renewal ICR to ensure that the Pilot remains credible by obtaining continued authorization to collect information from its participants to ensure that they are meeting their GHG goals. Companies that joined the Pilot voluntarily agree to the following: Setting a corporate GHG reduction goal; submitting a GHG inventory management plan; reporting to EPA, on an annual basis, the company's GHG emissions inventory, and progress toward their GHG reduction goal via the Annual GHG Inventory Summary and Goal Tracking Form. The information contained in the inventories of the companies that participate in the Pilot may be considered confidential business information and is maintained as such. EPA uses the data obtained from the companies to assess the success of the Pilot in achieving its goals and to identify the type of outreach, training, and other direct assistance and incentives that will help small business federal suppliers meet the objectives of E.O. 13514. Responses to the information collection are voluntary.

Burden Statement: The annual public reporting and recordkeeping burden for this collection of information is estimated to average 31 hours per response. Burden means the total time, effort, or financial resources expended by persons to generate, maintain, retain, or disclose or provide information to or for a Federal agency. This includes the time needed to review instructions; develop, acquire, install, and utilize technology and systems for the purposes of collecting, validating and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Small businesses participating in the joint EPA-GSA Federal Suppliers Greenhouse Gas Emissions Inventory Pilot.

Estimated Number of Respondents: 46.

Frequency of Response: Annually.

Estimated Total Annual Hour Burden: 966.

Estimated Total Annual Cost: $90,804 in labor costs and no annualized capital or O&M costs.

Changes in the Estimates: There is a decrease of 18,670 hours in the total estimated burden currently identified in the OMB Inventory of Approved ICR Burdens. This decrease reflects EPA's phase down of the Climate Leaders program on September 30, 2011. As a result, the number of respondents to this ICR decreased to include only those 46 small businesses participating in the joint EPA-GSA Federal Supplier Greenhouse Gas Emissions Inventory Pilot.

John Moses,
Director, Collection Strategies Division.

[FR Doc. 2012-6879 Filed 3-21-12; 8:45 am]

BILLING CODE 6560-50-P